DEPARTMENT OF TRANSPORTATION

Federal Railroad Administration

[Docket No. FRA-2017-0002-N-3]

Proposed Agency Information Collection Activities; Comment Request; Work Force Development Survey

AGENCY: Federal Railroad Administration (FRA), Department of Transportation. (DOT).

ACTION: Notice and comment request.

SUMMARY: Under the Paperwork Reduction Act of 1995 (PRA), this notice announces that FRA is forwarding the Information Collection Request (ICR) abstracted below to the Office of Management and Budget (OMB) for review and comment. The ICR describes the information collection and its expected burden.

DATES: Comments must be submitted on or before August 24, 2017.

FOR FURTHER INFORMATION CONTACT: Ms. Kim Toone, Information Collection Clearance Officer, Office of Administration, Office of Information Technology, RAD-20, Federal Railroad Administration, 1200 New Jersey Avenue SE., Mail Stop 35, Washington, DC 20590 (Telephone: (202) 493-6132). (This telephone number is not toll free.)

SUPPLEMENTARY INFORMATION: The PRA, 44 U.S.C. 3501-3520, and its implementing regulations, 5 CFR part 1320, require Federal agencies to issue two notices seeking public comment on information collection activities before OMB may approve paperwork packages. 44 U.S.C. 3506, 3507; 5 CFR 1320.5, 1320.8(d)(1), and 1320.12. On March 29, 2017, FRA published a 60-day notice in the Federal Register soliciting comment on the ICR for which it is now seeking OMB approval. See 82 FR 15417. FRA received no comments in response to this notice.

Before OMB decides whether to approve this proposed collection of information, it must provide 30 days for public comment. 44 U.S.C. 3507(b); 5 CFR 1320.12(d). Federal law requires OMB to approve or disapprove paperwork packages between 30 and 60 days after the 30-day notice is published. 44 U.S.C. 3507(b)-(c); 5 CFR 1320.12(d); see also 60 FR 44978, 44983, Aug. 29, 1995. OMB believes the 30-day notice informs the regulated community to file relevant comments and affords the agency adequate time to digest public comments before it renders a decision. 60 FR 44983, Aug. 29, 1995. Therefore, respondents should submit their respective comments to OMB within 30 days of publication to best ensure having their full effect. 5 CFR 1320.12(c); see also 60 FR 44983, Aug. 29, 1995.

The summary below describes the ICR and its expected burden. FRA is submitting the new request for clearance by OMB as the PRA requires.

Title: Workforce Development (WFD) Survey.

OMB Control Number: 2130-NEW.

Abstract: The FRA has statutory responsibility to ensure the safety of railroad operations as prescribed in the Federal Railroad Safety Act of 1970 (49 U.S.C. 20103). To conduct safe railroad operations, the workforce must have the requisite skills to operate equipment and technologies. Therefore, it is the responsibility of the FRA to promote workforce development policy and standards to ensure the workforce has the necessary skills and talent to conduct safe railroad operations. Due to an increasingly dynamic and maturing workforce combined with changing skills requirements imposed by newly introduced technologies, there is an increasing risk in not having the necessary talent pools to fill critical railroad operational positions. In 2011, FRA published the first Railroad Industry Modal Profile: An Outline of the Railroad Industry Workforce Trends, Challenges, and Opportunities, which provided a comprehensive overview of the railroad industry workforce as of December 31, 2008. This document is available to the public through the FRA Web site. The Railroad Industry Modal Profile was a response to the DOT National Transportation Workforce Development Initiative that required each DOT Operating Administration to produce an analysis of its industry workforce.

The prevailing workforce concerns during the early stages of the DOT National Transportation Workforce Development Initiative were the large number of retirement-eligible employees in transportation related fields and the national shortage of science, technology, engineering, and math graduates. Since the railroad industry had done very little hiring in the late 1980s and throughout most of the 1990s, the retirement-eligible population became quite large, even beyond that of most other industries and transportation modes (each of which were also grappling with similar retirement population concerns).

These concerns create risk in maintaining a viable workforce, and to take effective and efficient action to minimize these risks, FRA requires trustworthy information on current WFD strategies and challenges. Initial data collected for the modal profile established a baseline understanding of the risks and status. However, to validate and further develop the understanding of the risks, this survey is being proposed. With this submission, FRA is requesting permission to acquire the needed knowledge regarding the workforce.

Type of Request: New information collection.

Affected Public: Class I freight and passenger railroads, short line and regional railroads, labor unions, major associations, academia and specialty experts.

Form(s): FRA Form 240.

Total Estimated Annual Responses: 91.

Total Estimated Annual Burden: 30.5 hours.

Addressee: Send comments regarding these information collections to the Office of Information and Regulatory Affairs, Office of Management and Budget, 725 17th Street NW., Washington, DC 20503, Attention: FRA Desk Officer. Comments may also be sent via email to OMB at the following address: oira_submissions@omb.eop.gov.

Comments are invited on the following: Whether the proposed collection of information is necessary for DOT to properly perform its functions, including whether the information will have practical utility; the accuracy of DOT's estimates of the burden of the proposed information collections; ways to enhance the quality, utility, and clarity of the information to be collected; and ways to minimize the burden of the collections of information on respondents, including the use of automated collection techniques or other forms of information technology.

A comment to OMB is best assured of having its full effect if OMB receives it within 30 days of publication of this notice in the Federal Register.

Authority: 44 U.S.C. 3501-3520.

Sarah L. Inderbitzin,
Acting Chief Counsel.

[FR Doc. 2017-15585 Filed 7-24-17; 8:45 am]

BILLING CODE 4910-06-P